DEPARTMENT OF ENERGY

Federal Energy Regulatory Commission

[Docket No. CP19-105-000]

WBI Energy Transmission, Inc.; Notice of Request Under Blanket Authorization

Take notice that on March 1, 2019, WBI Energy Transmission, Inc. (WBI), 1250 West Century Avenue, Bismarck, North Dakota 58503, filed in the above referenced docket, a prior notice request pursuant to sections 157.205 and 157.210 of the Commission's regulations under the Natural Gas Act (NGA) and Columbia's blanket certificate issued in Docket No. CP82-487-000, for authorization to construct, replace, and operate mainline natural gas facilities all located in Carbon and Yellowstone Counties, Montana, and to provide additional 22,500 dekatherms per day of incremental firm transportation service to the Billings, Montana market area, all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding the application should be directed to Lori Myerchin, Director, Regulatory Affairs and Transportation Services, WBI Energy Transmission, Inc., 1250 West Century Avenue, Bismarck, North Dakota 58503, at (701) 530-1563, or lori.myerchin@wbienergy.com.

Specifically, WBI proposes to: (1) Construct the new Billings-Allendale Town Border Station (TBS) between Billings and Laurel, Montana; (2) replace five sections of 10- and 12-inch-diameter natural gas pipeline with 12-inch-diameter pipeline, totaling approximately 9.5 miles, between the Fromberg Regulator Station (RS) and the proposed Billings-Allendale TBS; (3) construct a new RS at Elbow Creek approximately one mile north of Edgar, Montana; (4) replace the Fromberg Takeoff Valve Setting and the Edgar and Rockvale TBSs; and (5) increase the Maximum Allowable Operating Pressure of a section of pipeline in Carbon County, Montana. The estimated cost of the project is $11.6 million.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's website (http://www.ferc.gov) under the “e-Filing” link.

Dated: March 11, 2019.
Kimberly D. Bose,
Secretary.

[FR Doc. 2019-05046 Filed 3-18-19; 8:45 am]

BILLING CODE 6717-01-P